DEPARTMENT OF THE INTERIOR

Bureau of Ocean Energy Management

30 CFR Parts 550 and 556

[Docket No. BOEM-2024-0037]

RIN 1010-AE23

Adjustment of Service Fees for Outer Continental Shelf Activities

AGENCY: Bureau of Ocean Energy Management, Interior.

ACTION: Final rule.

SUMMARY: The Department of the Interior (the Department or DOI), acting through the Bureau of Ocean Energy Management (BOEM), is amending its regulations related to service fees. This final rule adjusts for inflation the service fees due to BOEM for processing documents related to oil and gas activities on the Outer Continental Shelf (OCS).

DATES: This rule is effective November 1, 2024.

ADDRESSES: BOEM has established a docket for this action under Docket No. BOEM-2024-0037. All documents in the docket are listed on the https://www.regulations.gov website and can be found by entering the Docket No. in the “Enter Keyword or ID” search box and clicking “search”.

FOR FURTHER INFORMATION CONTACT: Kelley Spence, Office of Regulations, BOEM, 45600 Woodland Road, Sterling, Virginia 20166, at email address Kelley.Spence@boem.gov or at telephone number (984) 298-7345; and Karen Thundiyil, Chief, Office of Regulations, BOEM, 1849 C Street NW, Washington DC 20240, at email address Karen.Thundiyil@boem.gov or at telephone number (202) 742-0970. Individuals in the United States who are deaf, deafblind, hard of hearing, or have a speech disability may dial 711 (TTY, TDD, or TeleBraille) to access telecommunications relay services for contacting the contacts listed in this section. These services are available 24 hours a day, 7 days a week, to leave a message or question with the above individual. You will receive a reply during normal business hours. Individuals outside the United States should use the relay services offered within their country to make international calls to the point-of-contact in the United States.

SUPPLEMENTARY INFORMATION: Preamble acronyms and abbreviations. Multiple acronyms are included in this preamble. While this list may not be exhaustive, to ease the reading of this preamble and for reference purposes, BOEM explains the following acronyms here:

ANCSA Alaska Native Claims Settlement Act

APA Administrative Procedure Act

BEA Bureau of Economic Analysis

BOEM Bureau of Ocean Energy Management

CFR Code of Federal Regulations

CRA Congressional Review Act

DOCD Development Operations Coordination Document

DOI Department of the Interior (or Department)

DPP Development and Production Plan

E.O. Executive Order

EP Exploration Plan

FR Federal Register

NEPA National Environmental Policy Act

OCS Outer Continental Shelf

OIRA Office of Information and Regulatory Affairs

OMB Office of Management and Budget

PRA Paperwork Reduction Act

RFA Regulatory Flexibility Act

RUE Right-of-Use and Easement

SBREFA Small Business Regulatory Enforcement Fairness Act

UMRA Unfunded Mandates Reform Act

U.S.C. United States Code

Background. The service fees being adjusted in this rulemaking were last adjusted on August 26, 2022 (87 FR 52443). BOEM is adjusting these service fees to reflect inflation since the last update.

Organization of this document. The information in this preamble is organized as follows:

I. General Information

A. Does this action apply to me?

B. Where can I get a copy of this document and other related information?

II. Summary of the Rule

A. Background

B. Regulatory Amendments

III. Statutory and Executive Order Reviews

A. Administrative Procedure Act

B. Executive Order 12866: Regulatory Planning and Review, as Amended by Executive Order 14094: Modernizing Regulatory Review, and Executive Order 13563: Improving Regulation and Regulatory Review

C. Regulatory Flexibility Act (RFA)

D. Small Business Regulatory Enforcement Fairness Act (SBREFA)

E. Unfunded Mandates Reform Act (UMRA)

F. Executive Order 12630: Governmental Actions and Interference With Constitutionally Protected Property Rights

G. Executive Order 13132: Federalism

H. Executive Order 12988: Civil Justice Reform

I. Executive Order 13175: Consultation and Coordination With Indian Tribal Governments

J. Paperwork Reduction Act (PRA)

K. National Environmental Policy Act (NEPA)

L. Data Quality Act

M. Executive Order 13211: Actions Concerning Regulations That Significantly Affect Energy Supply, Distribution, or Use

N. Congressional Review Act (CRA)

I. General Information

A. Does this action apply to me?

Entities potentially affected by this final action are holders of oil, gas, and sulfur leases and Right-of-Use and Easement (RUE) grants on the OCS.

B. Where can I get a copy of this document and other related information?

In addition to being available in the docket, BOEM will post an electronic copy of the documents related to this final action at: https://www.boem.gov/regulations-and-guidance.

II. Summary of the Rule

A. Background

BOEM's regulations at 30 CFR 550.125 and 556.106 provide the authority for BOEM to periodically adjust its service fees according to the Implicit Price Deflator for Gross Domestic Product by publication of a document in the Federal Register. BOEM derives its authority from the Independent Offices Appropriation Act of 1952, 31 U.S.C. 9701, as interpreted by Office of Management and Budget (OMB) Circular No. A-25 Revised (1993). That circular states: “When a service (or privilege) provides special benefits to an identifiable recipient beyond those that accrue to the general public, a charge will be imposed (to recover the full cost to the Federal Government for providing the special benefit, or the market price).”

The service fees in 30 CFR 550.125 and 556.106 were last updated on August 26, 2022 (87 FR 52443). With this action, BOEM is adjusting the service fees to reflect inflation since the last update.

B. Regulatory Amendments

This rule adjusts the service fees in accordance with BOEM's regulations at 30 CFR 550.125 and 556.106. The new 2024 fee amounts are based on an inflation rate of 10.94 percent as calculated by the Implicit Price Deflator for Gross Domestic Product for the 2-year period between 2021 and 2023.

The inflation rate between any 2 years is calculated as the percentage difference between the measure of prices for a designated year (e.g., 2023) and some previous year (e.g., 2021). The prices include all new, domestically produced, final goods and services in the economy for the designated year (e.g., 2023). See the Department of Commerce's Bureau of Economic Analysis (BEA) “Table 1.1.9, Implicit Price Deflators for Gross Domestic Product,” available at https://apps.bea.gov/iTable/?1301=i&1303=13&ReqID=13&isuri=1&step=3.

The inflation rate was calculated by dividing the deflator from 2023 by the deflator from 2021, and then subtracting one. For example, using the data in the table below from BEA's table 1.1.9 as revised on April 25, 2024, with the base year set to 2021, the inflation multiplier was calculated as (122.273/110.213)−1 = 10.94 percent. A copy of this table is available in the docket.

Table 1—Data Sample from BEA's Table 1.1.9
Calendar Year | Current implicit price deflator for gross domestic product (Base = 2017) | Latest BEA annual inflation rate
2017 | 100.000 | 1.90%
2021 | 110.213 | 4.15
2022 | 117.973 | 4.80
2023 | 122.273 | 5.32

Table 2 summarizes the change in service fees from 2022 to 2024 using the calculated inflation rate multiplier.

Table 2—Service Fees Adjusted for Inflation
Service—processing of the following: | 2022 Fee amount | Multiplier | 2024 Fee amount
Change in Designation of Operator | $207 | 1.1094 | $230.
RUE for State lessee | $3,246 | 1.1094 | $3,601.
Exploration Plan (EP) | $4,348 for each surface location; no fee for revisions | 1.1094 | $4,823 for each surface location; no fee for revisions.
Development and Production Plan (DPP) or Development Operations Coordination Document (DOCD) | $5,017 for each well proposed; no fee for revisions | 1.1094 | $5,565 for each well proposed; no fee for revisions.
Conservation Information Document | $32,372 | 1.1094 | $35,914.
Assignment of record title interest in Federal oil and gas lease(s) for BOEM approval | $234 | 1.1094 | $260.
Sublease or Assignment of operating rights interest in Federal oil and gas lease(s) for BOEM approval | $234 | 1.1094 | $260.
Required document filing for record purpose, but not for BOEM approval | $34 | 1.1094 | $38.
Non-required document filing for record purposes | $34 | 1.1094 | $38.

III. Statutory and Executive Order Reviews

A. Administrative Procedure Act

The Administrative Procedure Act (APA) provides that, when an agency, for good cause, finds that “notice and public procedure . . . are impracticable, unnecessary, or contrary to the public interest,” the agency may issue a rule without providing notice and an opportunity for prior public comment. See 5 U.S.C. 553(b). BOEM finds good cause to promulgate this rule without first providing an opportunity for public notice and comment because BOEM has specific authority under existing regulations to periodically adjust its service fees according to the Implicit Price Deflator for Gross Domestic Product by publication of a document in the Federal Register (30 CFR 550.125 and 556.106).

Under the Independent Offices Appropriation Act and OMB Circular No. A-25 Revised (1993), BOEM can adjust service fees to cover its costs. The amount of the fee increase is not subject to BOEM's discretion as it is based on the Implicit Price Deflator, as determined by the U.S. Bureau of Economic Analysis. As such, BOEM finds the publication of a proposed rule and an opportunity for public comment to be unnecessary.

B. Executive Order 12866: Regulatory Planning and Review, as Amended By Executive Order 14094: Modernizing Regulatory Review, and Executive Order 13563: Improving Regulation and Regulatory Review

Executive Order (E.O.) 12866, as amended by E.O. 14094, provides that the Office of Information and Regulatory Affairs (OIRA) in OMB will review all significant rules. OIRA has determined that this rule is not a significant action under E.O. 12866, as amended by E.O. 14094, sec. 3(f)(1). This rulemaking will not result in an annual effect on the economy of $200 million or more (adjusted every 3 years by the Administrator of OIRA for changes in gross domestic product), nor will it raise any legal or policy issues.

E.O. 13563 reaffirms the principles of E.O. 12866, as amended by E.O. 14094, while calling for improvements in the Nation's regulatory system to promote predictability and reduce uncertainty, and to use the best, most innovative, and least burdensome tools for achieving regulatory ends. E.O. 13563 directs agencies to consider regulatory approaches that reduce burdens and maintain flexibility and freedom of choice for the public where these approaches are relevant, feasible, and consistent with regulatory objectives. BOEM has developed this rule in a manner consistent with these requirements.

C. Regulatory Flexibility Act (RFA)

The RFA, 5 U.S.C. 601-612, requires agencies to analyze the economic impact of regulations when a significant economic impact on a substantial number of small entities is likely and to consider regulatory alternatives that will achieve the agency's goals while minimizing the burden on small entities. The RFA applies only to rules for which an agency is required to first publish a proposed rule. See 5 U.S.C. 603(a) and 604(a). For the reasons discussed above, BOEM has determined that the APA does not require a proposed rule prior to this final rule. See 5 U.S.C. 553(b). As such, the RFA does not apply to this rulemaking.

D. Small Business Regulatory Enforcement Fairness Act (SBREFA)

The SBREFA, 5 U.S.C. 804(2), requires BOEM to perform a regulatory flexibility analysis, provide guidance, and help small businesses comply with statutes and regulations for major rulemakings. This action is not subject to SBREFA because it will not have an annual effect on the economy of $100 million or more.

E. Unfunded Mandates Reform Act (UMRA)

The UMRA, 2 U.S.C. 1531-1538, requires BOEM, unless otherwise prohibited by law, to assess the effects of regulatory actions on State, local, and Tribal governments, and the private sector. Section 202 of UMRA generally requires BOEM to prepare a written statement, including a cost-benefit analysis, for each proposed and final rule with “federal mandates” that may result in expenditures by State, local, and Tribal governments, in the aggregate, or to the private sector, of $100 million or more in any one year. This action does not contain a Federal mandate under UMRA, 2 U.S.C. 1531-1538, that may result in expenditures of $100 million or more for State, local and Tribal governments, in the aggregate, or the private sector in any one year. Accordingly, BOEM is not required to prepare a written statement required under section 202 of UMRA.

This action is not subject to the requirements of section 203 of UMRA because it contains no regulatory requirements that might significantly or uniquely affect small governments.

F. Executive Order 12630: Governmental Actions and Interference With Constitutionally Protected Property Rights

Executive Order 12630 ensures that government actions affecting the use of private property are undertaken on a well-reasoned basis with due regard for the potential financial impacts imposed by the government. This action does not effect a taking of private property or otherwise have taking implications under E.O. 12630, and therefore a takings implication assessment is not required.

G. Executive Order 13132: Federalism

Regulatory actions that have substantial direct effects on the States, on the relationship between the National Government and the States, or on the distribution of power and responsibilities among the various levels of government are subject to E.O. 13132. Under the criteria in section 1 of E.O. 13132, this final rule does not have sufficient federalism implications to warrant the preparation of a federalism summary impact statement. It will not have substantial direct effects on the States, on the relationship between the National Government and the States, or on the distribution of power and responsibilities among the various levels of government.

H. Executive Order 12988: Civil Justice Reform

This rule complies with the requirements of E.O. 12988. Specifically, this rule:

(1) Meets the criteria of section 3(a) requiring all regulations to be reviewed to eliminate errors and ambiguity and be written to minimize litigation; and

(2) Meets the criteria of section 3(b)(2) requiring all regulations to be written in clear language and contain clear legal standards.

I. Executive Order 13175: Consultation and Coordination With Indian Tribal Governments

Executive Order 13175 defines policies that have Tribal implications as regulations, legislative comments or proposed legislation, and other policy statements or actions that will or may have a substantial direct effect on one or more Indian Tribes, or on the relationship between the Federal Government and one or more Indian Tribes. Additionally, the DOI's consultation policy for Tribal Nations and Alaska Native Claims Settlement Act (ANCSA) Corporations, as described in Departmental Manual part 512 chapter 4, expands on the above definition from E.O. 13175 and requires that BOEM invite Indian Tribes and ANCSA Corporations “early in the planning process to consult whenever a Departmental plan or action with Tribal Implications arises.” BOEM strives to strengthen its government-to-government relationships with Tribal Nations through a commitment to consultation with Tribes, recognition of their right to self-governance and Tribal sovereignty, and honoring BOEM's trust responsibilities for Tribal Nations. BOEM determined that this rule has no substantial direct effects on federally recognized Indian Tribes or ANCSA Corporations and that consultation is not required.

J. Paperwork Reduction Act (PRA)

This rule does not contain information collection requirements, and a submission to OMB under the PRA (44 U.S.C. 3501 et seq.) is not required. BOEM may not conduct or sponsor, and you are not required to respond to, a collection of information unless it displays a currently valid OMB control number.

K. National Environmental Policy Act (NEPA)

This rule does not constitute a major Federal action significantly affecting the quality of the human environment. A detailed environmental analysis under NEPA is not required because this final rule is covered by a categorical exclusion (see 43 CFR 46.205). This final rule meets the criteria set forth at 43 CFR 46.210(i) for a Departmental categorical exclusion in that this action is “of an administrative, financial, legal, technical, or procedural nature.” BOEM has also determined that the final rule does not involve any of the extraordinary circumstances listed in 43 CFR 46.215 that would require further analysis under NEPA.

L. Data Quality Act

In promulgating this rule, BOEM did not conduct or use a study, experiment, or survey requiring peer review under the Data Quality Act (Pub. L. 106-554, app. C, sec. 515, 114 Stat. 2763, 2763A-153-154). In accordance with the Data Quality Act, the Department has issued guidance regarding the quality of information that it relies upon for regulatory decisions. This guidance is available at the Department's website at: https://www.doi.gov/ocio/policy-mgmt-support/information-and-records-management/iq.

M. Executive Order 13211: Actions Concerning Regulations That Significantly Affect Energy Supply, Distribution, or Use

Under E.O. 13211, BOEM is required to prepare and submit to OMB a “Statement of Energy Effects” for “significant energy actions.” This should include a detailed statement of any adverse effects on energy supply, distribution, or use (including a shortfall in supply, price increases, and increased use of foreign supplies) expected to result from the action and a discussion of reasonable alternatives and their effects. This rule is not a significant energy action under the definition in E.O. 13211, therefore a “Statement of Energy Effects” is not required.

N. Congressional Review Act (CRA)

This rule is not a major rule under the CRA (5 U.S.C. 804) because it:

(a) Will not have an annual effect on the economy of $100 million or more;

(b) Will not cause a major increase in costs or prices for consumers, individual industries, Federal, State, or local government agencies, or geographic regions; and

(c) Will not have significant adverse effects on competition, employment, investment, productivity, innovation, or the ability of U.S.-based enterprises to compete with foreign-based enterprises.

List of Subjects

30 CFR Part 550

Administrative practice and procedure, Continental shelf, Environmental impact statements, Environmental protection, Federal lands, Government contracts, Investigations, Mineral resources, OCS, Oil and gas exploration, Outer continental shelf, Pipelines, Reporting and recordkeeping requirements, Rights-of-way, sulfur.

30 CFR Part 556

Administrative practice and procedure, Continental shelf, Environmental protection, Federal lands, Government contracts, Intergovernmental relations, Oil and gas exploration, Outer continental shelf, Mineral resources, Rights-of-way, Reporting and recordkeeping requirements.

This action is taken pursuant to an existing delegation of authority.

Steven H. Feldgus,
Principal Deputy Assistant Secretary, Land and Minerals Management.

For the reasons stated in the preamble, BOEM amends 30 CFR chapter V as follows:

PART 550—OIL AND GAS AND SULFUR OPERATIONS IN THE OUTER CONTINENTAL SHELF

1. The authority citation for part 550 continues to read as follows:

Authority: 30 U.S.C. 1751; 31 U.S.C. 9701; 43 U.S.C. 1334.

2. Amend § 550.125 by revising paragraph (a) to read as follows:

§ 550.125 Service fees.

(a) The table in this paragraph (a) shows the fees that you must pay to BOEM for the services listed. The fees will be adjusted periodically according to the Implicit Price Deflator for Gross Domestic Product by publication of a document in the Federal Register. If a significant adjustment is needed to arrive at the new actual cost for any reason other than inflation, then a proposed rule containing the new fees will be published in the Federal Register for comment.

Service Fee Table
Service—processing of the following: | Fee amount | 30 CFR citation
(1) Change in Designation of Operator | $230 | § 550.143(d).
(2) Right-of-Use and Easement for State lessee | $3,601 | § 550.165.
(3) [Reserved] |  |
(4) Exploration Plan (EP) | $4,823 for each surface location; no fee for revisions | § 550.211(d).
(5) Development and Production Plan (DPP) or Development Operations Coordination Document (DOCD) | $5,565 for each well proposed; no fee for revisions | § 550.241(e).
(6) [Reserved] |  |
(7) Conservation Information Document | $35,914 | § 550.296(a).

* * * * *

PART 556—LEASING OF SULFUR OR OIL AND GAS AND FINANCIAL ASSURANCE REQUIREMENTS IN THE OUTER CONTINENTAL SHELF

3. The authority citation for part 556 continues to read as follows:

Authority: 31 U.S.C. 9701; 42 U.S.C. 6213; 43 U.S.C. 1334.

4. Amend § 556.106 by revising paragraph (a) to read as follows:

§ 556.106 Service fees.

(a) The table in this paragraph (a) shows the fees you must pay to BOEM for the services listed. BOEM will adjust the fees periodically according to the Implicit Price Deflator for Gross Domestic Product and publish a document showing the adjustment in the Federal Register. If a significant adjustment is needed to arrive at a new fee for any reason other than inflation, then a proposed rule containing the new fees will be published in the Federal Register for comment.

Service Fee Table
Service—processing of the following: | Fee amount | 30 CFR citation
(1) Assignment of record title interest in Federal oil and gas lease(s) for BOEM approval | $260 | § 556.701(a)
(2) Sublease or Assignment of operating rights interest in Federal oil and gas lease(s) for BOEM approval | $260 | § 556.801(a)
(3) Required document filing for record purpose, but not for BOEM approval | $38 | § 556.715(a) § 556.808(a)
(4) Non-required document filing for record purposes | $38 | § 556.715(b) § 556.808(b)

* * * * *

[FR Doc. 2024-18798 Filed 8-29-24; 8:45 am]

BILLING CODE 4340-98-P